DEPARTMENT OF STATE

22 CFR Part 22

[Public Notice: 9257]

RIN 1400-AD71

Schedule of Fees for Consular Services, Department of State and Overseas Embassies and Consulates—Passport and Citizenship Services Fee Changes

AGENCY: Department of State.

ACTION: Interim final rule with request for comment.

SUMMARY: The Department of State amends the Schedule of Fees for Consular Services (Schedule) for certain passport fees and citizenship services fees. More specifically, the rule amends the passport book application services fee and passport book security surcharge. The Department is adjusting these fees in light of the findings of the most recent annual update to the Cost of Service Model to ensure that the fees for consular services better align with the costs of providing those services. The passport fee changes will not alter the total fee paid by passport customers. The rule also renames the “Administrative Processing of Formal Renunciation of U.S. Citizenship” fee, as the “Administrative Processing of Request for Certificate of Loss of Nationality” fee, applying the fee to any request for a Certificate of Loss of Nationality whether the individual has relinquished nationality by taking an oath of renunciation or by voluntarily and intentionally performing another potentially expatriating act specified by statute.

DATES: Section 22.1, Items 2.(a), 2.(b), and 2.(g) of this rule become effective September 23, 2015. Section 22.1, Item 8 becomes effective November 9, 2015. Written comments must be received on or before November 9, 2015.

ADDRESSES: Interested parties may submit comments to the Department by any of the following methods:

• Visit the Regulations.gov Web site at: http://www.regulations.gov and search for the Regulatory Information Number (RIN) 1400-AD71 or docket number DOS-2014-0016.

• Mail (paper, disk, or CD-ROM): U.S. Department of State, Office of the Comptroller, Bureau of Consular Affairs (CA/C), SA-17 8th Floor, Washington, DC 20522-1707.

• Email: fees@state.gov. You must include the RIN (1400-AD71) in the subject line of your message.

• All comments should include the commenter's name, the organization the commenter represents, if applicable, and the commenter's address. If the Department is unable to read your comment for any reason, and cannot contact you for clarification, the Department may not be able to consider your comment. After the conclusion of the comment period, the Department will publish a Final Rule (in which it will address relevant comments) as expeditiously as possible.

FOR FURTHER INFORMATION CONTACT: Jill Warning, Special Assistant, Office of the Comptroller, Bureau of Consular Affairs, Department of State; phone: 202-485-6681, telefax: 202-485-6826; email: fees@state.gov.

SUPPLEMENTARY INFORMATION:

Background

The rule makes changes to the Schedule of Fees for Consular Services of the Department of State's Bureau of Consular Affairs. The Department sets and collects its fees based on the concept of full cost recovery. The Department completed its most recent review of current consular fees and will implement several changes to the Schedule of Fees based on the costs of services calculated by the Fiscal Year 2013 update to the Cost of Service Model.

What is the authority for this action?

The Department of State derives the general authority to set fees based on the cost of the consular services it provides, and to charge those fees, from the general user charges statute, 31 U.S.C. 9701. See, e.g., 31 U.S.C. 9701(b)(2)(A) (“The head of each agency . . . may prescribe regulations establishing the charge for a service or thing of value provided by the agency . . . based on . . . the costs to the government.”). As implemented through Executive Order 10718 of June 27, 1957, 22 U.S.C. 4219 further authorizes the Department to establish fees to be charged for official services provided by U.S. embassies and consulates. Other authorities allow the Department to charge fees for consular services, but not to determine the amount of such fees because the amount is statutorily determined.

Several statutes address specific fees relating to passports. For instance, 22 U.S.C. 214 authorizes the Secretary of State to set the passport application fee by regulation. In addition, another statute authorizes the Department to collect and retain a surcharge on passports to help pay for efforts to enhance border security. See 8 U.S.C. 1714. Although this passport surcharge was originally frozen statutorily at $12, subsequent legislation authorized the Department to amend this surcharge administratively, provided, among other things, that the resulting surcharge is “reasonably related to the costs of providing services in connection with the activity or item for which the surcharges are charged.” Public Law 109-472, 6, 120 Stat. 3554, reproduced at 8 U.S.C. 1714 (note).

Certain people are exempted by law or regulation from paying specific fees. These are noted in the Schedule of Fees. They include, for instance, exemptions from the passport execution and application fees for officers or employees of the United States government proceeding abroad in the discharge of official duties. See 22 U.S.C. 214; 22 CFR 51.52(b).

Although the funds collected for many consular fees must be deposited into the general fund of the Treasury pursuant to 31 U.S.C. 3302(b), various statutes permit the Department to retain some or all of the fee revenue it collects. For example, the Department retains the immigrant visa and passport security surcharges, see 8 U.S.C. 1714, but the portion of the passport application fee not related to the Western Hemisphere Travel Initiative is deposited into the general fund of the Treasury.

The Department last changed fees for passport services in an interim final rule dated June 28, 2010. See Department of State Schedule of Fees for Consular Services, Department of State and Overseas Embassies and Consulates, 22 CFR part 22 (75 FR 36522). Those changes to the Schedule went into effect July 13, 2010. A final rule regarding those fees was published on February 2, 2012 (77 FR 5177). The Department last changed fees for visa and citizenship services in an interim final rule dated August 28, 2014. See Schedule of Fees for Consular Services, Department of State and Overseas Embassies and Consulates—Visa and Citizenship Services Fee Changes, 22 CFR part 22 (79 FR 51247). That change to the Schedule went into effect on September 12, 2014. A final rule regarding those fees was published on August 25, 2015 (80 FR 51464).

Some fees in the Schedule, including Items 20(a) and (b), 31(a) and (b) and 35(c), are set by the Department of Homeland Security (DHS). These DHS fees were most recently updated by that agency on November 23, 2010, and are subject to change in the future. See 75 FR 58962. The Department lists these DHS fees in the Department Schedule of Fees for cashiering purposes only. The Department has no authority to set DHS fees, which are listed at 8 CFR 103.7(b)(1).

Why is the department adjusting certain passport and citizenship services fees at this time?

Consistent with OMB Circular A-25 guidelines, the Department recently completed a fee review using its Cost of Service Model. This review was conducted from September 2013 through May 2014 and provides the basis for updating the Schedule. The results of that review are outlined in this rule.¹ While fees are set in accordance with full cost recovery, there are limited circumstances, such as the passport book and card application fees for minors, in which costs are allocated to related fees or the Department charges a fee that is lower than the cost of providing the service. This may be done in order to account for statutory requirements or the potential impact on the public of setting those fees at a higher level. See 31 U.S.C. 9701(b)(2) (user charges based on costs to the government, the value of the service to the recipient, the public policy or interest served, and other relevant facts).

¹ To request more information about the Cost of Service model, please send your request using one of the methods in the Addresses section above.

Similar to the 2012 fee review, upon which the current Schedule is based, costs are generated by an activity-based costing model that takes into account all costs to the U.S. government. Unlike a typical accounting system, which accounts for only traditional general-ledger-type costs such as salaries, supplies, travel and other business expenses, activity-based costing (ABC) models measure the costs of activities, or processes, and then provide an additional view of costs by the products and services produced by an organization through the identification of the key cost drivers of the activities. Below is a description of activity-based costing excerpted from the Supplemental Notice of Proposed Rulemaking published on March 24, 2010 (75 FR 14111).

Activity-Based Costing Generally

OMB Circular A-25 states that it is the objective of the United States Government to “(a) ensure that each service, sale, or use of Government goods or resources provided by an agency to specific recipients be self-sustaining; [and] (b) promote efficient allocation of the Nation's resources by establishing charges for special benefits provided to the recipient that are at least as great as costs to the Government of providing the special benefits . . .” OMB Circular A-25, 5(a)-(b); see also 31 U.S.C. 9701(b)(2)(A) (agency “may prescribe regulations establishing the charge for a service or thing of value provided by the agency . . . based on . . . the costs to the Government . . .”). To set prices that are “self-sustaining,” the Department must determine the full cost of providing consular services. Following guidance provided in Statement 4 of OMB's Statement of Federal Financial Accounting Standards (SFFAS), available at http://www.fasab.gov/pdffiles/sffas-4.pdf, the Department chose to develop and use an activity-based costing (ABC) model to determine the full cost of the services listed in its Schedule of Fees, both those whose fee the Department proposes to change, and those whose fee will remain unchanged from prior years. The Department refers to the specific ABC model that underpins the proposed fees as the “Cost of Service Model” or “CoSM.”

The Government Accountability Office (GAO) defines activity-based costing as a “set of accounting methods used to identify and describe costs and required resources for activities within processes.” Because an organization can use the same staff and resources (computer equipment, production facilities, etc.) to produce multiple products or services, ABC models seek to precisely identify and assign costs to processes and activities and then to individual products and services through the identification of key cost drivers referred to as “resource drivers” and “activity drivers.”

Example: Imagine a government agency that has a single facility it uses to prepare and issue a single product—a driver's license. In this simple scenario, every cost associated with that facility (the salaries of employees, the electricity to power the computer terminals, the cost of a blank driver's license, etc.) can be attributed directly to the cost of producing that single item. If that agency wants to ensure that it is charging a “self-sustaining” price for driver's licenses, it only has to divide its total costs for a given time period by an estimate of the number of driver's licenses to be produced during that same time period.

However, if that agency issues multiple products (driver's licenses, non-driver ID cards, etc.), has employees that work on other activities besides licenses (for example, accepting payment for traffic tickets), and operates out of multiple facilities it shares with other agencies, it becomes much more complex for the agency to determine exactly how much it costs to produce any single product. In those instances, the agency would need to know what percent of time its employees spend on each service and how much of its overhead (rent, utilities, facilities maintenance, etc.) can be allocated to the delivery of each service to determine the cost of producing each of its various products—the driver's license, the non-driver ID card, etc. Using an ABC model allows the agency to identify separate costs for those different services.

Components of Activity-Based Costing

As noted in SFFAS Statement 4, “activity-based costing has gained broad acceptance by manufacturing and service industries as an effective managerial tool” (SFFAS Statement 4, 147). There are no “off-the-shelf” ABC models that allow the Department (or any other entity) to simply populate a few data points and generate an answer. ABC models require financial and accounting analysis and modeling skills combined with a detailed understanding of all the organization's business processes, which, in an entity the size of the Department's Bureau of Consular Affairs, are exceedingly complex. More specifically, ABC models require an organization to:

• Identify all of the activities that are required to produce a particular product or service (“activities”);

• Identify all of the resources allocated to the production of (costs) that product or service (“resources”);

• Measure the quantity of resources consumed (“resource driver”); and

• Measure the frequency and intensity of demand placed on activities to produce services (“activity driver”).

For additional details on an activity-based costing model, see the Supplemental Notice of Proposed Rulemaking published on March 24, 2010 (75 FR 14111).

Although much of the modeling methodology has remained the same between fee reviews, the methodology for capturing the Department's historical support costs and projected costs has been revised to reflect the change in the Department's workload. In order to accurately account for the costs associated with growing demand for consular services, the current fee review also incorporates two years of projected costs in addition to two years of historical costs and one year of current costs. The new fees represent a weighted average of the annual costs by service for fiscal years 2011 through 2015. Costs for individual fiscal years were weighted by the projected workload volume for that year. These weighted costs by fiscal year were then added together to generate a single cost per service upon which the fees are determined.

Passport Book Application Services

The Department is decreasing the application fee for an adult (age 16 and older) passport book from $70 to $50, and the application fee for a minor (under age 16) passport book from $40 to $20. These changes apply to all applicants except those persons who are statutorily exempted from paying fees. The reduction in the passport application fee (and corresponding increase in the passport security surcharge noted below) will result in a reduction of funds deposited in the general fund at the Treasury and an increase in the revenue retained by the Department of State. The passport fee changes will not alter the total fee paid by passport customers.

Since the passport book application services fee was last changed in 2010, the Department has enhanced its Cost of Service Model to more accurately identify which costs should be attributed to the application fee and which should be attributed to the passport security surcharge. The application fee includes all costs of passport issuance and use that are not included in the passport security surcharge, such as the cost of providing emergency services for American citizens overseas and the cost of collecting passport fees and initial data entry through a lockbox service. The 2013 Cost of Service Model reflected that these costs were lower than the previous fee of $70 (including the “WHTI surcharge” described below) and thus the Department is lowering the fee to more precisely reflect these costs.

Because a minor passport book has a validity of just five years, in contrast with the ten-year validity period of an adult passport book, the Department charges a lower, below-cost fee for minor passport books and allocates the remainder of the cost of processing minor passport book applications to the adult passport application fee. The Department is also decreasing the minor passport book application fee by $20.

As described in 22 CFR 51.51(d), the passport application services fee incorporates a surcharge (the “Western Hemisphere Travel Initiative surcharge” or “WHTI surcharge”) to recover the costs of meeting the increased demand for passports as a result of actions taken to comply with section 7209(b) of Pub. L. 108-458 (reproduced at 8 U.S.C. 1185 note) (“WHTI”). The 2013 Cost of Service Model revealed that there has been no change in the costs attributable to WHTI and thus the surcharge remains $22 for adults. This surcharge is embedded within the passport book application services fee and not charged separately or separately itemized in the Schedule of Fees, see 22 CFR 51.51(d) (noting absence of separate itemization). This portion of the application fee has decreased from $22 to $20 for minors to allow the Department to keep the overall passport application fee for minors (including the security surcharge, below) at $80, a reduced fee. The Department may charge reduced fees in order to account for statutory requirements or the potential impact on the public of setting those fees at a higher level. See 31 U.S.C. 9701(b)(2) (user charges based on costs to the government, the value of the service to the recipient, the public policy or interest served, and other relevant facts).

Passport Security Surcharge

The Department is increasing the passport security surcharge, which is applicable to all applicants except those persons who are statutorily exempted from paying fees, from $40 to $60. The passport security surcharge includes costs associated with the passport application processing fee that support enhanced border security, such as the secure book and card materials, passport printers, and compensation associated with passport adjudication, including fraud prevention. The 2013 Cost of Service Model results indicated that these costs amount to approximately $60 per passport. This change will result in a reduction of revenue deposited in the general fund of the Treasury and increase the revenue retained by the Department of State. This fee increase is due in part to new technology and more secure passport materials since 2010. See 8 U.S.C. 1714 and Public Law 109-472, 120 Stat. 3554, reproduced at 8 U.S.C. 1714 note.

Documentation for Loss of Nationality

The Department is expanding the application of and renaming item 8 in the Schedule of Fees to “Administrative Processing of Request for Certificate of Loss of Nationality.” The fee will be applied to cover not only services to U.S. nationals (i.e., U.S. citizens and non-citizen nationals) who relinquish nationality by taking the oath of renunciation under 8 U.S.C. 1481(a)(5), but also to cover services to U.S. nationals who relinquish nationality under 8 U.S.C. 1481(a)(1) to 1481(a)(4) or any earlier-in-time relinquishment statutes administered by the Department of State and request a Certificate of Loss of Nationality. Currently, the fee is paid by those taking the oath of renunciation under 8 U.S.C. 1481(a)(5) at the time the oath is sworn. The fee would be collected from an individual claiming to have relinquished nationality at the time that person requests the Certificate of Loss of Nationality (that is, after completing Form DS-4079 and signing before a consular officer Part II of Form DS-4079 entitled “Statement of Voluntary Relinquishment of U.S. Citizenship”). The Fiscal Year 2012 Cost of Service Model update demonstrated that documenting a U.S. national's relinquishment of nationality is extremely costly whether the service is for a relinquishment under 8 U.S.C. 1481(a)(1) to 1481(a)(4) or a relinquishment by renunciation under 8 U.S.C. 1481(a)(5). Both require American consular officers overseas to spend substantial amounts of time to accept, process, and adjudicate cases. The cost of the service is not limited to the time consular officers spend with individuals prior to and at appointments. The application is reviewed both overseas and domestically to ensure full compliance with the law. The consular officer must determine that the individual is indeed a U.S. national, advise the individual on the consequences of loss of nationality, and ensure that the individual fully understands the consequences of loss, including the inability to reside in the United States unless properly documented as an alien. Through documentary review, consideration of the individual's circumstances, and careful interviewing, the consular officer also must determine whether the individual is seeking loss of nationality voluntarily and with the requisite intent, as required by U.S. Supreme Court case law and by statute (8 U.S.C. 1481). This determination can be especially demanding in the case of minors or individuals with a developmental disability or mental illness.

The consular officer must also ensure that the commission of an expatriating act was as prescribed by statute, which is often an issue in non-renunciation relinquishment cases. The loss of nationality service must be documented on several forms and in consular systems as well as in a memorandum from the consular officer to the Department's Directorate of Overseas Citizens Services in Washington, DC (“OCS”), in the Bureau of Consular Affairs. All forms and memoranda are closely reviewed in OCS by a country officer and a senior approving officer, and may include consultation with legal advisers. This review entails close examination of whether the requirements of voluntariness and intent are satisfied in the individual case. Some applications require multiple rounds of correspondence between post and the Department. The final approval of the loss of nationality must be done by law within the Department (8 U.S.C. 1501), by OCS, after which the case is returned to the consular officer overseas for final delivery of the Certificate of Loss of Nationality to the individual. In addition, every individual issued a Certificate of Loss of Nationality is advised of the possibility of seeking a future Administrative Review of the loss of nationality, a time-consuming process that is conducted by OCS's Office of Legal Affairs.

Currently, nationals who renounce nationality pay a fee of $2,350, while nationals who apply for documentation of relinquishment of nationality by the voluntary commission of an expatriating act with the intention to lose nationality, do not pay a fee. However the services performed in both situations are similar, requiring close and detailed case-by-case review of the factors involved in a request for a Certificate of Loss of Nationality, and both result in similar costs to the Department.

In the past, individuals seldom requested Certificates of Loss of Nationality from the Department to document relinquishment. Although the Department was aware that an individual relinquishment service was among the most time consuming of consular services, it was rarely performed so the overall cost to the Department was low and the Department did not establish a fee. Requests for a Certificate of Loss of Nationality on the basis of a non-renunciatory relinquishment have increased significantly in recent years, and the Department expects the number to grow in the future, causing the total cost of this service to increase. At the same time, the Department funds consular services completely from user fees. The Cost of Service Model continues to demonstrate that such costs are incurred by the Department when accepting, processing, and adjudicating relinquishment of nationality cases; therefore, the Department will collect a fee from all individuals seeking a Certificate of Loss of Nationality. Taking into account the costs of both renunciation and non-renunciation relinquishment processes, the fee will be $2,350.

Regulatory Findings

Administrative Procedure Act

The Department is publishing this rule as an interim final rule with request for comment, with a 60-day provision for post-promulgation comments and with an effective date for § 22.1, Items 2.(a), 2.(b), and 2.(g) of less than 30 days from the date of publication, based on the “good cause” exception set forth at 5 U.S.C. 553(b)(3)(B) and 553(d)(3). Delaying implementation of this rule would be contrary to the public interest because consular services are directly funded by user fees, not by appropriated funds. Each day that the Department is not collecting adequate user fees, services provided by the Department to citizens, nationals, and other customers worldwide suffer an immediate degradation. For example, the passport security surcharge change will provide approximately $1,000,000 per day to continue timely and secure passport services in a sustainable manner. There is no backup source of funds for consular services. Therefore, the Department finds that the delay involved in publishing this rule for notice and comment would cause immediate harm to the ability of the Department to provide these services.

Regulatory Flexibility Act

The Department has reviewed this rule and, by approving it, certifies that it will not have a significant economic impact on a substantial number of small entities as defined in 5 U.S.C. 601(6).

Unfunded Mandates Act of 1995

This rule will not result in the expenditure by state, local, and tribal governments, in the aggregate, or by the private sector, of $100 million or more in any year, and it will not significantly or uniquely affect small governments. Therefore, no actions were deemed necessary under the provisions of the Unfunded Mandates Reform Act of 1995, 2 U.S.C. 1501-1504.

Small Business Regulatory Enforcement Fairness Act of 1996

This rule is not a major rule as defined by 5 U.S.C. 804(2).

Executive Orders 12866 and 13563

The Department has reviewed this rule to ensure its consistency with the regulatory philosophy and principles set forth in the Executive Orders. This rule has been submitted to OMB for review.

This rule is necessary in light of the Department of State's Fiscal Year 2013 update to the Cost of Service Model finding that the cost of processing passports has changed since those fees were last amended in 2010. The Department is setting the new fees in accordance with 31 U.S.C. 9701 and other applicable legal authorities, as described in detail above. See, e.g., 31 U.S.C. 9701(b)(2)(A) (“The head of each agency . . . may prescribe regulations establishing the charge for a service or thing of value provided by the agency . . . based on . . . the costs to the government.”). This regulation sets the fees for consular services at the amount required to recover the costs associated with providing that service.

Details of the fee changes are as follows:

Item No. | New fee | Current fee | Change in fee | Percentage increase | Estimated annual number of applications ¹ | Estimated change in annual fees collected ²
SCHEDULE OF FEES FOR CONSULAR SERVICES
* * * * * * *
PASSPORT AND CITIZENSHIP SERVICES
2. Passport Book Application Services for: ³ |  |  |  |  |  |
(a) Applicants age 16 or over (including renewals) | $50 | $70 | −$20 | −29 | 10,840,438 | −$216,808,760
(b) Applicants under age 16 | 20 | 40 | −20 | −50 | 2,276,122 | −$45,522,440
(g) Passport book security surcharge (enhanced border security fee) | 60 | 40 | 20 | 50 | 13,116,560 | $262,331,200
8. Administrative Processing of Request for Certificate of Loss of Nationality ⁴ |  |  |  |  |  |
(a.) Oath of renunciation | 2,350 | 2,350 | 0 | 0 | 5,986 | 0
(b.) Relinquishment | 2,350 | 0 | 2,350 | N/A | 559 | $1,313,650
Total |  |  |  |  |  | $1,313,650
* * * * * * *
¹ Based on projected FY 2015 workload.
² Based on projected FY 2015 workload.
³ The shift of $20 between the passport application fee and the passport security surcharge will result in a reduction in funds deposited in the general fund of the Treasury and an increase in the funds retained by State.
⁴ The existing fee definition covers a projected 5,986 applicants renouncing their U.S. nationality in FY 2015. This rule expands the definition of the fee to cover an additional projected 559 applicants who will relinquish their nationality in FY 2015. The total volume of applicants paying this fee is projected to be 6,545, if in effect for all of FY 2015.

Executive Orders 12372 and 13132

This regulation will not have substantial direct effects on the states, on the relationship between the national government and the states, or on the distribution of power and responsibilities among the various levels of government. Therefore, in accordance with section 6 of Executive Order 13132, it is determined that this rule does not have sufficient federalism implications to require consultations or warrant the preparation of a federalism summary impact statement. The regulations implementing Executive Order 12372 regarding intergovernmental consultation on federal programs and activities do not apply to this regulation.

Executive Order 13175

The Department has determined that this rulemaking will not have tribal implications, will not impose substantial direct compliance costs on Indian tribal governments, and will not preempt tribal law. Accordingly, the requirements of Executive Order 13175 do not apply to this rulemaking.

Paperwork Reduction Act

This rule does not impose any new reporting or record-keeping requirements subject to the Paperwork Reduction Act.

List of Subjects in 22 CFR Part 22

Consular services, Fees, Passports.

Accordingly, for the reasons stated in the preamble, 22 CFR part 22 is amended as follows:

PART 22—SCHEDULE OF FEES FOR CONSULAR SERVICES—DEPARTMENT OF STATE AND FOREIGN SERVICE

1. The authority citation for part 22 continues to read as follows:

Authority: 8 U.S.C. 1101 note, 1153 note, 1183a note, 1351, 1351 note, 1714, 1714 note; 10 U.S.C. 2602(c); 11 U.S.C. 1157 note; 22 U.S.C. 214, 214 note, 1475e, 2504(a), 4201, 4206, 4215, 4219, 6551; 31 U.S.C. 9701; Exec. Order 10,718, 22 FR 4632 (1957); Exec. Order 11,295, 31 FR 10603 (1966).

2. Section 22.1 is amended by:

a. Revising Items 2.(a), (b), and (g), effective September 23, 2015; and

b. Revising Item 8, effective November 9, 2015.

The revisions read as follows:

§ 22.1 Schedule of fees.

* * * * *

Schedule of Fees for Consular Services
Item No. | Fee
PASSPORT AND CITIZENSHIP SERVICES
* * * * * * *
2. Passport Book Application Services for: |
(a) Applicants age 16 or over (including renewals) | 50
(b) Applicants under age 16 | 20
* * * * * * *
(g) Passport book security surcharge (enhanced border security fee) | 60
* * * * * * *
8. Administrative Processing of Request for Certificate of Loss of Nationality | 2,350
* * * * * * *

Dated: August 28, 2015.
Patrick F. Kennedy,
Under Secretary of State for Management, U.S. Department of State.

[FR Doc. 2015-22054 Filed 9-4-15; 8:45 am]

BILLING CODE 4710-06-P